INTERNATIONAL TRADE COMMISSION

[USITC SE-10-030]

Sunshine Act Meeting

AGENCY HOLDING THE MEETING: United States International Trade Commission.

TIME AND DATE: October 26, 2010 at 11 a.m.

PLACE: Room 101, 500 E Street, SW., Washington, DC 20436. Telephone: (202) 205-2000.

STATUS: Open to the public.

MATTERS TO BE CONSIDERED: 1. Agendas for future meetings: none.

2. Minutes.

3. Ratification List.

4. Inv. Nos. 731-TA-1174 and 1175 (Final)(Seamless Refined Copper Pipe and Tube from China and Mexico)—briefing and vote. (The Commission is currently scheduled to transmit its determinations and Commissioners' opinions to the Secretary of Commerce on or before November 8, 2010.)

5. Outstanding action jackets:

(1) Document No. GC-10-161 concerning Inv. No. 337-TA-413 (Certain Rare-Earth Magnets and Magnetic Materials and Articles Containing Same).

(2) Document No. GC-10-184 concerning approval of annual Federal Register notice on investigations of APO and rules violations completed in calendar year 2009.

In accordance with Commission policy, subject matter listed above, not disposed of at the scheduled meeting, may be carried over to the agenda of the following meeting.

Issued: October 19, 2010.
By order of the Commission.
William R. Bishop,
Hearings and Meetings Coordinator.

[FR Doc. 2010-26816 Filed 10-20-10; 11:15 am]

BILLING CODE 7020-02-P